Proclamation 9193 of October 10, 2014

Columbus Day, 2014

By the President of the United States of America

A Proclamation

When Christopher Columbus—a son of Genoa, Italy—set sail across the Atlantic, no one could imagine the profound and lasting impact he would have on the world. In search of a westward route to Asia, he instead spotted the Bahamas. As dawn broke on October 12, 1492, Columbus's crew set foot on a Caribbean island and changed the course of history. For much of Europe, this marked the discovery of the New World, and it set in motion the more than five centuries that have followed.

In a new world, explorers found opportunity. They endured unforgiving winters and early hardship. They pushed west across a continent, charting rivers and mountains, and expanded our understanding of the world as they embraced the principle of self-reliance.

In a new world, a history was written. It tells the story of an idea—that all women and men are created equal—and a people's struggle to fulfill it. And it is a history shared by Native Americans, one marred with long and shameful chapters of violence, disease, and deprivation.

In a new world, a Nation was born. A resolute people fought for democracy, liberty, and freedom from tyranny. They secured fundamental rights to expression, petition, and free exercise of religion and built a beacon of hope to people everywhere who cherish these ideals.

Columbus's historic voyage ushered in a new age, and since, the world has never been the same. His journey opened the door for generations of Italian immigrants who followed his path across an ocean in pursuit of the promise of America. Like Columbus, these immigrants and their descendants have shaped the place where they landed. Italian Americans have enriched our culture and strengthened our country. They have served with honor and distinction in our Armed Forces, and today, they embrace their rich heritage as leaders in our communities and pioneers of industry.

On Columbus Day, we reflect on the moment the world changed. And as we recognize the influence of Christopher Columbus, we also pay tribute to the legacy of Native Americans and our Government's commitment to strengthening their tribal sovereignty. We celebrate the long history of the American continents and the contributions of a diverse people, including those who have always called this land their home and those who crossed an ocean and risked their lives to do so. With the same sense of exploration, we boldly pursue new frontiers of space, medicine, and technology and dare to change our world once more.

In commemoration of Christopher Columbus's historic voyage 522 years ago, the Congress, by joint resolution of April 30, 1934, and modified in 1968 (36 U.S.C. 107), as amended, has requested the President proclaim the second Monday of October of each year as “Columbus Day.”

NOW, THEREFORE, I, BARACK OBAMA, President of the United States of America, do hereby proclaim October 13, 2014, as Columbus Day. I call upon the people of the United States to observe this day with appropriate ceremonies and activities. I also direct that the flag of the United States be displayed on all public buildings on the appointed day in honor of our diverse history and all who have contributed to shaping this Nation.

IN WITNESS WHEREOF, I have hereunto set my hand this tenth day of October, in the year of our Lord two thousand fourteen, and of the Independence of the United States of America the two hundred and thirty-ninth.

[FR Doc. 2014-24848

Filed 10-16-14; 8:45 am]

Billing code 3295-F5